DEPARTMENT OF THE INTERIOR

Bureau of Land Management

[ID-015-1610-DG]

AGENCY: Bureau of Land Management, Interior.

ACTION: Notice of Availability of the Record of Decision (ROD) for the Owyhee Resource Management Plan and Final Environmental Impact Statement (RMP/EIS).

SUMMARY: Pursuant to section 202 of the Federal Land Policy and Management and section 102(2)(c) of the National Environmental Policy Act, the Bureau of Land Management (BLM) has issued a Record of Decision (ROD) for the Proposed Owyhee Resource Management Plan (RMP) and Final Environmental Impact Statement (EIS). The ROD documents approval of BLM's plan to manage the public lands within the Owyhee Resource Area during the next 15 to 20 years and beyond. The Owyhee RMP establishes direction for management on about 1.3 million acres of BLM administered public lands in the Owyhee Resource Area in southwest Idaho. The Owyhee RMP is the same as the Proposed Owyhee Resource Management Plan (Alternative E) published in July 1999.

EFFECTIVE DATE: The Owyhee Resource Management Plan is effective December 30, 1999. Implementation of the Owyhee RMP will begin immediately. Some RMP decisions require immediate action while other decisions are identified for implementation during the life of the RMP. Some decisions will require action only when an activity is initiated.

ADDRESSES: Copies of the Record of Decision are available at the BLM, Lower Snake River District Office, 3948 Development Avenue, Boise, ID 83705.

FOR FURTHER INFORMATION CONTACT: Daryl Albiston, Field Manager; or Fred Minckler, Team Leader at telephone (208) 384-3300.

SUPPLEMENTARY INFORMATION: The Owyhee Resource Area includes 1,320,032 acres of BLM administered public lands in western Owyhee County, Idaho. The Owyhee RMP is a general land use plan that establishes guidance for managing a broad spectrum of land uses and allocations and contains resource objectives, land use allocations, management actions and direction needed to achieve program and multiple use goals. The Owyhee RMP replaces the BLM's land management guidance for the Owyhee Resource Area contained in the Owyhee Management Plan (MFP) which was approved in 1981. The record of decision documents selection of Alternative E (the Proposed Owyhee RMP) as presented in the Proposed Owyhee Resource Management Plan and Final Environmental Impact Statement issued July 1999, with associated Appendices, Tables and Maps, as the approved Owyhee RMP.

The following are the major components of the approved RMP:

Manage land uses and activities to ensure properly functioning watershed conditions.

Manage vegetation to achieve healthy rangelands

Meet State of Idaho water quality standards.

Provide habitat for special status plants and animals and habitat for a high diversity of wildlife.

Provide habitat for a wild horse herd appropriate management level of 192 wild horses.

Provide for a sustained level of livestock use. Initially allocate 135,116 livestock AUMs.

Manage livestock grazing activities so goals for rangeland health are achieved.

Use fire as a management tool to improve rangeland health.

Manage Douglas-fir communities to emphasize forest health.

Recommend and manage nine river segments (163 miles) as suitable for designation as Wild and Scenic Rivers. Sixty (60) miles of eligible river segments were determined to be non-suitable and are released from further Wild and Scenic River consideration.

Designate 13 areas totaling 167,372 acres as Areas of Critical Environmental Concern (ACECs).

Continue management of 298,630 acres as Wilderness Study Areas (WSAs). 195,980 acres were previously recommended to Congress as suitable for Wilderness designation.

Designate off-highway motorized vehicle (OHMV) use as “Open” on 192 acres, “Limited” on 1,217,805 acres and “Closed” on 101,994 acres.

Identify 325,000 acres potentially available for disposal, subject to further review.

Dated: January 3, 2000.
Howard Hedrick,
Associate District Manager.

[FR Doc. 00-1609 Filed 1-21-00; 8:45 am]

BILLING CODE 4310-GG-P